DEPARTMENT OF HEALTH AND HUMAN SERVICES

Health Resources and Services Administration

Maternal and Child Health Federal Set-Aside Program; Special Projects of Regional and National Significance; Partnership for Information and Communication Cooperative Agreement

AGENCY: Health Resources and Services Administration (HRSA), DHHS.

ACTION: Notice of availability of funds.

SUMMARY: The Health Resources and Services Administration (HRSA) announces that up to $750,000 in fiscal year (FY) 2001 funds is available to fund one cooperative agreement under the Partnership for Information in Communication (PIC) program activity. This award will be made under the program authority of section 501(a)(2) of the Social Security Act, the Maternal and Child Health (MCH) Federal Set-Aside Program (42 USC 701(a)(2)). Within the HRSA, grants and cooperative agreements for Special Projects of Regional and National Significance (SPRANS) under this authority are administered by the Maternal and Child Health Bureau (MCHB). This announcement solicits applications only from national membership organizations representing certified pediatric care providers. The award for this PIC competition will be made for a four-year grant period, with continuation after the first year subject to satisfactory performance and the continued availability of funds. Funds will come from SPRANS funds appropriated under Public Law 106-554.

DATES: Entities which intend to submit an application for this cooperative agreement are expected to notify MCHB's Division of Child, Adolescent and Family Health of their intent by July 11, 2001. The deadline for receipt of applications is August 10, 2001. Applications will be considered “on time” if they are either received on or before the deadline date or postmarked on or before the deadline date. The projected award date is September 3, 2001.

ADDRESSES: To receive a complete application kit, applicants may telephone the HRSA Grants Application Center at 1-877-477-2123 (1-877-HRSA-123) beginning June 26, 2001, or register on-line at: http://www.hrsa.gov/_order3.htm directly. The PIC program uses the standard Form PHS 5161-1 (Rev.7/00). Applicants must use Catalog of Federal Domestic Assistance (CFDA) #93.110G when requesting application kits. The CFDA is a Government wide compendium of enumerated Federal programs, project services, and activities which provide assistance. All applications should be mailed or delivered to Grants Management Officer, MCHB: HRSA Grants Application Center, 1815 N. Fort Meyer Drive, Suite 300, Arlington , Virginia 22209: telephone 1-877-477-2123: E-mail: hrsagac@hrsa.gov.

Necessary application forms and an expanded version of this Federal Register notice may be downloaded in either Microsoft Office 2000 or Adobe Acrobat format (.pdf) from the MCHB Home Page at http://www.mchb.hrsa.gov. Please contact Joni Johns, at 301/443-2088, or jjohns@hrsa.gov/, if you need technical assistance in accessing the MCHB Home Page via the Internet.

This notice will appear in the Federal Register and the HRSA Home Page at http://www.hrsa.dhhs.gov/. Federal Register notices are found on the World Wide Web by following instructions at: http://www.access.gpo.gov/su_docs/aces/aces140.html.

Letter of Intent: Notification of intent to apply can be made in one of three ways: telephone, 301/443-4996; email, smartone@hrsa.gov/; mail, Office of Adolescent Health, MCHB, HRSA; Division of Child, Adolescent and Family Health; Parklawn Building, Room 18A-30; 5600 Fishers Lane; Rockville, MD 20857.

FOR FURTHER INFORMATION CONTACT: Suzanne Martone, 301/443-4996, email: smartone@hrsa.gov/ (for questions specific to project objectives and activities of the program; or the required Letter of Intent, which is further described in the application kit); Curtis Colston, 301/443-3438, email ccolston@hrsa.gov/ (for grants policy, budgetary, and business questions).

SUPPLEMENTARY INFORMATION:

Program Background and Objectives

The PIC program was established by MCHB in 1990 as a SPRANS initiative to develop, strengthen and maintain communication among governmental, professional and private organizations representing leaders and policy makers on issues concerning maternal and child health. The program provides a mechanism for communication and collaboration between and among the PIC member organizations. The unifying factor is a strong commitment to the development, improvement and maintenance of health care systems as the framework for improved maternal and child health status. PIC member organizations, with assistance from MCHB, utilize the cooperative agreement to: (1) Disseminate new information about maternal and child health in a format most useful to policy and decision makers concerned with developing MCH policies and programs in the public and private sectors at local, State and national levels; (2) facilitate understanding of the maternal and child health concerns held by policy and decision makers representing PIC member organizations; (3) communicate to the PIC member organizations and/or their constituencies the position of MCHB, HRSA and key Federal agencies on critical issues; (4) facilitate the exchange of views among PIC member organizations and/or their constituencies concerning existing and proposed Federal and State policies and positions on MCH-related issues and concerns; and (5) identify, create and expand opportunities for collaboration and coordinated effort in response to new, emerging or ongoing MCH issues or concerns or issues with the potential to impact MCH populations or programs.

As with existing PIC cooperative agreements for other organization categories, this cooperative agreement is expected to assure improved maternal and child health status through improved health care systems. The grantee and the MCHB determine what MCH issues will be addressed, what information will be transmitted, how that information will be transmitted, and how responses to the information will be followed up.

Specific issues to be addressed in this cooperative agreement include: (1) Assisting pediatric practitioners in developing components of a “medical home,” as defined by the American Academy of Pediatrics (AAP). Of particular concern is the capacity of the pediatric practitioner to link with other community resources in a timely fashion to meet the needs of children and their families, to assure a smooth referral of patients and families to those resources, and to assure effective communication among care providers to the benefit of children and their families. Integration of the concepts found in Bright Futures and the Healthy Steps initiative into the medical home is another area of interest; (2) promoting the concept of “family pediatrics” by recognizing the impact of psychosocial issues of the family, both as individuals and as a group, on children and the resources needed by families to parent effectively, and developing a comprehensive plan to assist practicing pediatricians to improve their capacity to deliver family-oriented care; (3) assisting in developing the capacity of pediatric care providers to recognize family mental health issues, to develop appropriate response plans, and to identify and collaborate with community resources to meet the mental health needs of their patients and families; (4) reviewing the functions of pediatric practice in the U.S. as compared to other countries (e.g., Great Britain); (5) assisting in developing the role of pediatricians in the provision of oral health services and in collaborating with dentists and other oral health practitioners to provide early and appropriate oral health care for children; (6) contingent upon the continued availability of funds, assisting States, Territories, Tribes and communities in developing and strengthening linkages between pediatricians and child care, other health care and family support services via the Healthy Child Care America campaign. This is an activity for which the AAP, with support from MCHB and the Administration on Children and Families' Child Care Bureau, assumed coordination in October 1996.

Authorization

Section 501(a)(2) of the Social Security Act, the MCH Federal Set-Aside Program (42 USC 701(a)(2)).

Purpose

The purpose of this announcement is to solicit applications for a PIC cooperative agreement from national membership organizations representing certified pediatric care providers.

The overall purpose of PIC is to facilitate, through cooperative agreements with major governmental, professional and private organizations representing leaders concerned with issues related to maternal and child health, the dissemination of new information in a format that will be most useful to them when developing MCH policies and programs in the private and public sectors at local, state and national levels. The forum offered by PIC provides those individuals and organizations a means of communicating issues directly to each other and with MCH programs at all levels.

Organizations currently receiving support as part of this cooperative agreement represent State governors and their staffs; State legislatures and their staffs; State, city and county local health officials; city and county health policymakers; municipal policymakers; private business; philanthropic organizations; families of children with special health needs; nonprofit and/or for-profit managed care organizations; coalitions of organizations promoting the health of mothers and infants and; national membership organizations representing survivors of traumatic brain injury (TBI), providers of emergency medical care for children, and State EMSC programs.

Eligibility

Under SPRANS project grant regulations at 42 CFR 51a.3, any public or private entity, including an Indian tribe or tribal organization (as defined at 25 U.S.C. 450b), is eligible to apply for grants covered by this announcement.

Preference

For this competition, preference will be given to national membership organizations representing certified pediatric care providers. Specific issues of importance to be addressed in this cooperative agreement include: medical home; family pediatrics; mental health; the role of the pediatrician in pediatric care; oral health; and the Healthy Child Care America Campaign, which is dedicated to expanding the use of national health and safety standards in organized day care settings.

Funding Level/Project Period

Approximately $750,000 is available to support this award in FY 2001, with a project period of up to four years. Continuation in funding of the project from one budget period to the next is subject to satisfactory performance, availability of funds, and program priorities. The initial budget period is expected to be 12 months, with subsequent budget periods being 12 months.

Funding Mechanism

The administrative and funding instrument to be used for this project will be a cooperative agreement, in which substantial MCHB scientific and/or programmatic involvement with the awardee is anticipated during the performance of the project. Under the terms of this Cooperative Agreement, in addition to the required monitoring and technical assistance provided under grants, Federal responsibilities will include:

(1) Assurance of the availability of the services of experienced Federal personnel to participate in the planning and development of all phases of this activity.

(2) Participation in meetings and seminars conducted during the period of the Cooperative Agreement.

(3) Review and approval of procedures established for carrying out the scope of work.

(4) Assistance in establishing and maintaining Federal interagency and interorganizational contacts necessary to carry out the project.

(5) Participation in the dissemination of information about project activities.

(6) Facilitation of effective project communications and accountability to MCHB/HRSA, with special attention to new program initiatives and policy development in the public health field relating to maternal and child health.

Review Criteria

The following review criteria will be used to evaluate applications for this program:

(1) Representational Capacity of Applicant. The extent to which the applicant provides evidence of the capacity to identify and represent the interest and concerns of pediatric care providers.

(2) Specific Issues and General Concerns in Maternal and Child Health. The extent to which the applicant identifies and describes programmatic issues that further the purposes of maternal and child health and are of concern to both the MCHB and to the applicant, analyzes factors relevant to these issues, and determines their susceptibility to change.

(3) Strategies for Addressing Problems. The extent to which the applicant discusses methods for achieving a functional collaboration with MCHB that addresses items relating to the “Purpose,” in item (2), above; and also addresses any issues relating to “Identification and Analysis,” in item (2), above. This discussion is expected to include clear descriptions of: (a) How the applicant organization plans to improve transmission to its target population of information available from the Federal Government about important maternal and child health issues; and (b) how the applicant organization plans to initiate or increase dialogue between organization members and the Federal Government in order to improve prospects for effective maternal and child health programming.

(4) Monitoring and Evaluation. The extent to which the applicant describes how the project staff will determine the successful conduct and completion of proposed activities, based on the objectives outlined. All key activities that are tracked must be identified and measured as to the achievement of project goals and objectives.

(5) Capabilities of the Applicant. The extent to which the applicant demonstrates that it is capable of successfully carrying out the project, including: (a) The sufficiency of proposed resources; and (b) the number and adequacy of proposed project personnel, based on curricula vitae that document education, skills and experience relevant and necessary for the proposed project.

(6) Budget Justification. The extent to which the applicant documents how it plans to support the activities outlined in the budget and justifies how each requested item was determined relative to the project plan, including (a) The number of person-hours for each staff person, in terms of the project activities requiring the knowledge, skills, and experience of each person; and (b) travel times, equipment, contractual services, supplies, and other categories. A description of contractual services that the applicant plans to use, including the purpose, scope and project cost of the contract. The derivation of travel costs includes who, where, length of time, purpose, and associated costs of each proposed trip.

Additional criteria may be used to review and rank applications for this competition. Any such criteria will be identified in the application kit. Applicants should pay strict attention to addressing these criteria in addition to those referenced above. Also, to the extent that regulatory review criteria generally applicable to all Title V programs (at 42 CFR 51a) are relevant to this specific project, such factors will be taken into account.

OMB approval for any data collection in connection with this cooperative agreement will be sought, as required under the Paperwork Reduction Act of 1995.

Public Health System Reporting Requirements

This program is subject to the Public Health System Reporting Requirements (approved under OMB No. 0937-0195). Under these requirements, the community-based nongovernmental applicant must prepare and submit a Public Health System Impact Statement (PHSIS). The PHSIS is intended to provide information to State and local health officials to keep them apprized of proposed health services grant applications submitted by community-based nongovernmental organizations within their jurisdictions.

Community-based nongovernmental applicants are required to submit the following information to the head of the appropriate State and local health agencies in the area(s) to be impacted no later than the Federal application receipt due date:

(a) A copy of the face page of the application (SF 525).

(b) A summary of the project (PHSIS), not to exceed one page, which provides:

(1) A description of the population to be served.

(2) A summary of the services to be provided.

(3) A description of the coordination planned with the appropriate State and local health agencies.

Executive Order 12372

This program has been determined to be a program which is not subject to the provisions of Executive Order 12372 concerning intergovernmental review of Federal programs by appropriate State and local officials.

Dated: June 19, 2001.
Elizabeth M. Duke,
Acting Administrator.

[FR Doc. 01-15966 Filed 6-25-01; 8:45 am]

BILLING CODE 4160-15-P